DEPARTMENT OF LABOR

Employment and Training Administration

[TA-W-65,576]

SGL Carbon, LLC, A Subsidiary of SGL Group—The Carbon Company Including On-Site Leased Workers of Manpower and Reflex Services, St. Marys, PA; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on April 21, 2009, applicable to workers of SGL Carbon, LLC, a subsidiary of SGL Group—The Carbon Company, St. Marys, Pennsylvania. The notice was published in the Federal Register on May 7, 2009 (74 FR 21407).

At the request of a company official, the Department reviewed the certification for workers of the subject firm. The workers are engaged in the production of carbon and graphite products.

New information provided by the company shows that workers leased from Manpower and Reflex Services were employed on-site at SGL Carbon, LLC, a subsidiary of SGL Group—The Carbon Company, St. Marys, Pennsylvania.

The intent of the Department's certification is to include all workers at the subject firm who were adversely affected by the shift in production of carbon and graphite products to Germany.

The Department has determined that these workers were sufficiently under the control of SGL Carbon, LLC, to be considered leased workers.

Based on these findings, the Department is amending this certification to include workers leased from working on-site at the St. Marys, Pennsylvania location of the subject firm. The amended notice applicable to TA-W-65,576 is hereby issued as follows:

All workers of SGL Carbon, LLC, a subsidiary of SGL Group—The Carbon Company, St. Marys, Pennsylvania, including on-site leased workers from Manpower and Reflex Staffing, who became totally or partially separated from employment on or after March 11, 2008 through April 21, 2011, are eligible to apply for adjustment assistance under Section 223 of the Trade Act of 1974, and are also eligible to apply for alternative trade adjustment assistance under Section 246 of the Trade Act of 1974.

Signed in Washington, DC, this 30th day of July 2009.
Richard Church,
Certifying Officer, Division of Trade Adjustment Assistance.

[FR Doc. E9-20449 Filed 8-25-09; 8:45 am]

BILLING CODE 4510-FN-P